DEPARTMENT OF COMMERCE

National Oceanic and Atmospheric Administration

RIN 0648-XA078

[File No. 15750]

Marine Mammals

AGENCY: National Marine Fisheries Service (NMFS), National Oceanic and Atmospheric Administration (NOAA), Commerce.

ACTION: Notice; issuance of permit.

SUMMARY: Notice is hereby given that a permit has been issued to ABR, Inc. Environmental Research and Services, Fairbanks, AK, to conduct research on marine mammals in Alaska.

ADDRESSES: The permit and related documents are available for review upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

FOR FURTHER INFORMATION CONTACT: Tammy Adams or Laura Morse, (301) 427-8401.

SUPPLEMENTARY INFORMATION: On December 9, 2010, notice was published in the Federal Register (75 FR 76703) that a request for a permit had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The permit is valid for five years and allows harassment of the following marine mammal species during conduct of aerial surveys to document seasonal distribution and abundance of marine mammals in western lower Cook Inlet, Alaska: Steller sea lions (Eumetopias jubatus), beluga whales (Delphinapterus leucas), harbor seals (Phoca vitulina), harbor porpoises (Phocoena phocoena), Dall's porpoises (Phocoenoides dalli), minke whales (Balaenoptera acutorostrata), gray whales (Eschrichtius robustus), killer whales (Orcinus orca), northern fur seals (Callorhinus ursinus), fin whales (B. physalus), and humpback whales (Megaptera novaeangliae).

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact, signed on November 15, 2011.

As required by the ESA, issuance of this permit was based on a finding that such permit: (1) Was applied for in good faith; (2) will not operate to the disadvantage of such endangered species; and (3) is consistent with the purposes and policies set forth in section 2 of the ESA.

Dated: November 21, 2011.
P. Michael Payne,
Chief, Permits and Conservation Division, Office of Protected Resources, National Marine Fisheries Service.

[FR Doc. 2011-30401 Filed 11-23-11; 8:45 am]

BILLING CODE 3510-22-P